POSTAL SERVICE BOARD OF GOVERNORS

Sunshine Act Meeting

Times and Dates: 1 p.m., Wednesday, February 16, 2005; and 8:30 a.m., Thursday, February 17, 2005.

Place: Sarasota, Florida, at the Ritz-Carlton Hotel, 1111 Ritz-Carlton Drive, in the Plaza III and IV Ballroom.

Status: February 16—1 p.m. (Closed); February 17—8:30 a.m. (Open);

Matters To Be Considered:

Wednesday, February 16—1 p.m. (Closed)

1. Financial Update.

2. Postal Rate Commission Opinion and Recommended Decision in Negotiated Service Agreement (NSA) with Bank One Corporation, Docket No. MC2004-3.

3. Filing with the Postal Rate Commission for a Negotiated Service Agreement.

4. Rate Case Planning.

5. Strategic Planning.

6. Personnel Matters and Compensation Issues.

Thursday, February 17—8:30 a.m. (Open)

1. Minutes of the Previous Meeting, January 11, 2005.

2. Remarks of the Postmaster General/Chief Executive Officer.

3. Appointment of Members to Board Committees and Committee Report.

4. Capital Investment.

a. Atlantic City, New Jersey, Main Post Office.

5. Quarterly Report on Financial Performance.

6. Report on the Southeast Areas and Suncoast District.

7. Tentative Agenda for the April 12, 2005, meeting in Washington, DC.

For More Information Contact: William T. Johnstone, Secretary of the Board, U.S. Postal Service, 475 L'Enfant Plaza, SW., Washington, DC. 20260-1000. Telephone (202) 268-4800.

William T. Johnstone,
Secretary.

[FR Doc. 05-2466 Filed 2-3-05; 3:46 pm]

BILLING CODE 7710-12-M